DEPARTMENT OF COMMERCE

National Oceanic and Atmospheric Administration

RIN 0648-XV074

South Atlantic Fishery Management Council; Public Meetings

AGENCY: National Marine Fisheries Service (NMFS), National Oceanic and Atmospheric Administration (NOAA), Commerce.

ACTION: Notice of public meetings.

SUMMARY: The South Atlantic Fishery Management Council's (Council) will hold a meeting of its Habitat Protection and Ecosystem-Based Management Advisory Panel (AP).

DATES: The Habitat Protection and Ecosystem-Based Management AP meeting will take place October 22, 2019, from 9 a.m. to 4:30 p.m.; October 23, 2019, from 9 a.m. until 4:30 p.m.; and October 24, 2019, from 9 a.m. until 12 p.m.

ADDRESSES:

Meeting address: The meeting will be held at Florida Fish and Wildlife Research Institute, 100 8th Avenue SE, St. Petersburg, FL 33701; phone: (727) 896-8626.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat Protection and Ecosystem-Based Management AP meeting is open to the public and will be available via webinar as it occurs. Registration is required. Webinar registration information and other meeting materials will be posted to the Council's website at: http://safmc.net/safmc-meetings/current-advisory-panel-meetings/ as it becomes available.

The AP meeting agenda includes the following items: South Atlantic Deep Water Ecosystem Mapping/Characterization—2019 Activities; ecosystem considerations—prey supporting Dolphin Wahoo fisheries; The Florida Keys National Marine Sanctuary Draft Environmental Impact Statement (DEIS) Marine Zoning and Regulatory Review; the Council's Citizen Science Program; the Southeast Connectivity and Adaptation Strategy; State activities addressing climate resiliency; documenting occurrence and impacts of extreme weather events; energy development activities in the South Atlantic; regional fishery independent research update; NOAA Fisheries Ecosystem-Based Fishery Management activities for the South Atlantic region: Status and timelines for completion of deliverables supporting the Council's Fishery Ecosystem Plan (FEP) II; and the FEP II Implementation Plan—Two Year Roadmap. The AP will also discuss the Southeast Coastal Ocean Observing Regional Association (SECOORA) Regional Coastal Ocean Observing Plan; and the South Atlantic Ecopath with Ecosim Model. The AP will develop recommendations as necessary for consideration by the Council's Habitat Protection and Ecosystem-Based Management Committee.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 17, 2019.
Rey Israel Marquez,
Acting Deputy Director, Office of Sustainable Fisheries, National Marine Fisheries Service.

[FR Doc. 2019-20401 Filed 9-19-19; 8:45 am]

BILLING CODE 3510-22-P